DEPARTMENT OF ENERGY

Federal Energy Regulatory Commission

[Docket No. CP22-468-000]

Trailblazer Pipeline Company, Rockies Express Pipeline, LLC; Notice of Availability of the Environmental Assessment for the Proposed Trailblazer Conversion Project

The staff of the Federal Energy Regulatory Commission (FERC or Commission) has prepared an environmental assessment (EA) for the Trailblazer Conversion Project (Project), proposed by Trailblazer Pipeline Company, LLC (TPC) and Rockies Express Pipeline, LLC (REX), collectively, the Applicants, in the above-referenced docket. The Applicants request authorization to abandon in-place, construct, and operate natural gas transmission facilities in Wyoming, Colorado and Nebraska. According to TPC and REX, the Project is designed to provide continuing service to TPC's existing natural gas firm transportation customers using underutilized jurisdictional capacity on REX pipeline facilities while making TPC's pipeline facilities available in anticipation of future non-jurisdictional use to transport carbon dioxide (CO2) for final sequestration. The Project would not involve an increase in natural gas transportation capacity.

The EA assesses the potential environmental effects of the abandonment, construction, and operation of the Project in accordance with the requirements of the National Environmental Policy Act. The FERC staff concludes that approval of the proposed Project, with appropriate mitigating measures, would not constitute a major federal action significantly affecting the quality of the human environment.

The Trailblazer Conversion Project would consist of the following:

• abandonment in-place of 392 miles of 36-inch-diameter Trailblazer Pipeline and three TPC mainline compressor stations on the Trailblazer Pipeline, including activities involving excavation to expose, cut, and cap the pipeline facilities, at discrete sites;

• construction of a new 18.8-mile-long, 20-inch-diameter lateral pipeline (REX Lateral to TPC Adams);

• construction of a new 22.2-mile-long, 36-inch-diameter lateral pipeline (REX Lateral to TPC East);

• installation of station piping and additional regulation at three existing TPC meter stations to enable deliveries into end users or interstate pipeline systems;

• expansion of one existing meter station between the Rockies Express Pipeline and the Trailblazer Pipeline;

• construction of two new REX meter stations; and

• construction of five new interconnect booster stations (small capacity compressor stations) at existing pipeline facilities (footprint of booster stations ranging from 1.2 to 2.1 acres in size and total horsepower ranging from 50 to 3,533).

The EA addresses the facilities and abandonment activities proposed by the Applicants. If the Commission grants approval for abandonment, future use of the pipeline for purposes other than interstate natural gas transportation, including any subsequent construction related to future use of the abandoned pipeline for CO2 sequestration, would not be subject to the Commission's jurisdiction.

The Commission mailed a copy of the Notice of Availability of the EA to federal, state, and local government representatives and agencies; elected officials; environmental and public interest groups; Native American tribes; potentially affected landowners and other interested individuals and groups; and newspapers and libraries in the Project area. The EA is only available in electronic format. It may be viewed and downloaded from the FERC's website (www.ferc.gov), on the natural gas environmental documents page (https://www.ferc.gov/industries-data/natural-gas/environment/environmental-documents). In addition, the EA may be accessed by using the eLibrary link on the FERC's website. Click on the eLibrary link (https://www.ferc.gov/ferc-online/elibrary/overview), select “General Search” and enter the docket number in the “Docket Number” field, excluding the last three digits (i.e. CP22-468). Be sure you have selected an appropriate date range. For assistance, please contact FERC Online Support at FercOnlineSupport@ferc.gov or toll free at (866) 208-3676, or for TTY, contact (202) 502-8659.

The number of pages in the EA exceeds the page limits set forth in the Council on Environmental Quality's July 16, 2020 final rule, Update to the Regulations Implementing the Procedural Provisions of the National Environmental Policy Act (85 FR 43304). The Director of the Office of Energy Projects, as our senior agency official, has authorized this page limit exceedance for the EA to provide information that is useful to the decision-making process.

The EA is not a decision document. It presents Commission staff's independent analysis of the environmental issues for the Commission to consider when addressing the merits of all issues in this proceeding. Any person wishing to comment on the EA may do so. Your comments should focus on the EA's disclosure and discussion of potential environmental effects, reasonable alternatives, and measures to avoid or lessen environmental impacts. The more specific your comments, the more useful they will be. To ensure that the Commission has the opportunity to consider your comments prior to making its decision on this Project, it is important that we receive your comments in Washington, DC on or before 5:00 p.m. Eastern Time on May 1, 2023.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can also file your comments electronically using the eFiling feature on the Commission's website (www.ferc.gov) under the link to FERC Online. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address using the U.S. Postal Service. Be sure to reference the Project docket number (CP22-468-000) with your submission: Kimberly D. Bose, Secretary, Federal Energy Regulatory Commission, 888 First Street NE, Room 1A, Washington, DC 20426. Submissions sent through carriers other than the U.S. Postal Service must be sent to 12225 Wilkins Avenue, Rockville, Maryland 20852 for processing.

Filing environmental comments will not give you intervenor status, but you do not need intervenor status to have your comments considered. Only intervenors have the right to seek rehearing or judicial review of the Commission's decision. At this point in this proceeding, the timeframe for filing timely intervention requests has expired. Any person seeking to become a party to the proceeding must file a motion to intervene out-of-time pursuant to Rule 214(b)(3) and (d) of the Commission's Rules of Practice and Procedures (18 CFR 385.214(b)(3) and (d)) and show good cause why the time limitation should be waived. Motions to intervene are more fully described at https://www.ferc.gov/ferc-online/ferc-online/how-guides.

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: March 31, 2023.
Kimberly D. Bose,
Secretary.

[FR Doc. 2023-07197 Filed 4-5-23; 8:45 am]

BILLING CODE 6717-01-P